DEPARTMENT OF EDUCATION

Privacy Act of 1974; System of Records—Electronic Cohort Default Rate Appeals (eCDR Appeals)

AGENCY: Federal Student Aid, Department of Education.

ACTION: Notice of a new system of records.

SUMMARY: In accordance with the Privacy Act of 1974, as amended (Privacy Act), the Department of Education (Department) publishes this notice of a new system of records entitled “Electronic Cohort Default Rate Appeals (eCDR Appeals)”.

18-11-18

The eCDR Appeals system will be used to process institution of higher education cohort default rate challenges and adjustment requests. The eCDR Appeals system will also contain records regarding borrowers who have applied for and received loans under the William D. Ford Federal Direct Loan (Direct Loan) Program and the Federal Family Education Loan (FFEL) Program. The Department seeks comment on the new system of records described in this notice, in accordance with the requirements of the Privacy Act.

DATES: We must receive your comments about this new system of records on or before February 1, 2008.

The Department filed a report describing the new system of records covered by this notice with the Chair of the Senate Committee on Homeland Security and Governmental Affairs, the Chair of the House Committee on Oversight and Government Reform, and the Administrator of the Office of Information and Regulatory Affairs, Office of Management and Budget (OMB) on December 27, 2007. This system of records will become effective at the later date of—(1) The expiration of the 40-day period for OMB review on February 5, 2008; or (2) February 1, 2008, unless the system of records needs to be changed as a result of public comment or OMB review.

ADDRESSES: Address all comments about this new system of records to Donna Bellflower, Default Prevention and Management, Portfolio Performance Management Staff, Federal Student Aid, U.S. Department of Education, Union Center Plaza, 830 First Street, NE., room 84B2, Washington, DC 20202-5353. If you prefer to send comments through the Internet, use the following address: http://comments@ed.gov.

You must include the term “eCDR Appeals” in the subject line of your electronic message.

During and after the comment period, you may inspect all comments about this notice at the U.S. Department of Education in room 84B2, Union Center Plaza, 8th Floor, 830 First Street, NE., Washington, DC, between the hours of 8 a.m. and 4:30 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for this notice. If you want to schedule an appointment for this type of aid, please contact the person listed under FOR FURTHER INFORMATION CONTACT.

FOR FURTHER INFORMATION CONTACT: Donna Bellflower. Telephone number: (202) 377-3196. If you use a telecommunications device for the deaf (TDD), call the Federal Relay Service (FRS), toll free, at 1-800-877-8339.

Individuals with disabilities can obtain this document in an alternative format (e.g., Braille, large print, audiotape, or computer diskette) on request to the contact person listed in this section.

SUPPLEMENTARY INFORMATION:

Introduction

The Privacy Act (5 U.S.C. 552a(e)(4)) requires the Department to publish in the Federal Register this notice of a new system of records maintained by the Department. The Department's regulations implementing the Privacy Act are contained in the Code of Federal Regulations (CFR) in part 5b of title 34.

The Privacy Act applies to a record about an individual that is maintained in a system of records from which individually identifying information is retrieved by a unique identifier associated with each individual, such as a name or Social Security number. The information about each individual is called a “record,” and the system, whether manual or computer-based, is called a “system of records.”

The Privacy Act requires each agency to publish a system of records notice in the Federal Register and to submit, whenever the agency publishes a new system of records or makes a significant change to an established system of records, a report to the Administrator of the Office of Information and Regulatory Affairs, OMB. Each agency is also required to send copies of the report to the Chair of the Committee on Oversight and Government Reform of the House of Representatives, and to the Chair of the Committee on Homeland Security and Governmental Affairs of the Senate.

Electronic Access to This Document

You can view this document, as well as all other documents of this Department published in the Federal Register, in text or Adobe Portable Document Format (PDF) on the Internet at the following site: http://www.ed.gov/news/fedregister/index.html.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara.

Dated: December 27, 2007.
Lawrence A. Warder,
Acting Chief Operating Officer, Federal Student Aid.

For the reasons discussed in the preamble, the Acting Chief Operating Officer, Federal Student Aid, U.S. Department of Education publishes a notice of a new system of records, to read as follows:

SYSTEM NUMBER:

18-11-18.

SYSTEM NAME:

Electronic Cohort Default Rate Appeals (eCDR Appeals).

SECURITY CLASSIFICATION:

None.

SYSTEM LOCATIONS:

(1) Default Prevention and Management, Portfolio Performance Management Staff, Federal Student Aid, U.S. Department of Education, Union Center Plaza, 830 First Street, NE., room 84B2, Washington, DC 20202-5353.

(2) Perot Systems, 2300 W. Plano Parkway, Plano, TX 75075.

CATEGORIES OF INDIVIDUALS COVERED BY THE SYSTEM:

The eCDR Appeals system contains records on borrowers who have received loans under the William D. Ford Federal Direct Loan (Direct Loan) Program and the Federal Family Education Loan (FFEL) Program. Although the eCDR Appeals system contains information about institutions associated with individuals, this system of records notice pertains only to individuals protected under the Privacy Act of 1974, as amended.

CATEGORIES OF RECORDS IN THE SYSTEM:

The eCDR Appeals system contains records regarding: (1) Student/borrower identifier information including Social Security number and name; (2) loan information (e.g., last date of attendance, date entered repayment, default date) for each student/borrower loan counted in the cohort default rate of the institution of higher education submitting the cohort default rate challenge or adjustment request; and (3) documentation submitted by an institution of higher education or data manager to support its data allegation (e.g., enrollment verification, copies of cancelled checks, etc.).

AUTHORITY FOR MAINTENANCE OF THE SYSTEM:

20 U.S.C. 1082, 1085, 1094, 1099c.

PURPOSE(S):

The information contained in the records maintained in this system is used for the following purposes:

(1) To allow institutions of higher education to electronically challenge their draft cohort default rate data, and electronically request an adjustment to their official cohort default rate data via an uncorrected data adjustment or new data adjustment request;

(2) To allow data managers to electronically view and respond to cohort default rate challenges and adjustment requests from institutions of higher education. Note: Data managers are determined on the basis of the holder of the loan. For FFEL Program loans held by the lender or its guaranty agency, the guaranty agency is the data manager for the purpose of the appeal. If the Department is the holder of the FFEL Program loan, then the Department is the data manager. For Direct Loans, the Direct Loan servicer is the data manager; and

(3) To allow Federal Student Aid to electronically view and respond to cohort default rate challenges and adjustment requests from institutions of higher education.

ROUTINE USES OF RECORDS MAINTAINED IN THE SYSTEM, INCLUDING CATEGORIES OF USERS AND THE PURPOSES OF SUCH USES:

The Department may disclose information contained in a record in this system of records without the consent of the individual if the disclosure is compatible with the purposes for which the record was collected. The Department may make these disclosures on a case-by-case basis, or, if the Department has complied with the computer matching requirements of the Computer Matching and Privacy Protection Act of 1988, as amended, under a computer matching agreement.

(1) Program Disclosures. The Department may disclose records to the institution of higher education or data manager responsible for entering the loan information into the eCDR appeals system, in order to obtain clarification or additional information to assist in determining the outcome of the allegation.

(2) Disclosure for Use by Other Law Enforcement Agencies. The Department may disclose information to any Federal, State, local, or foreign agency, or other public authority responsible for enforcing, investigating, or prosecuting violations of administrative, civil, or criminal law or regulation if that information is relevant to any enforcement, regulatory, investigative, or prosecutorial responsibility within the receiving entity's jurisdiction.

(3) Enforcement Disclosure. In the event that information in this system of records indicates, either on its face or in connection with other information, a violation or potential violation of any applicable statutory, regulatory, or legally binding requirement, the Department may disclose the relevant records to the appropriate agency, whether foreign, Federal, State, Tribal, or local, charged with the responsibility of investigating or prosecuting that violation or charged with enforcing or implementing the statute, Executive order, rule, regulation, or order issued pursuant thereto.

(4) Litigation and Alternative Dispute Resolution (ADR) Disclosure.

(a) Introduction. In the event that one of the parties listed below is involved in litigation or ADR, or has an interest in litigation or ADR, the Department may disclose certain records to the parties described in paragraphs (b), (c), and (d) of this routine use under the conditions specified in those paragraphs:

(i) The Department or any of its components.

(ii) Any Department employee in his or her official capacity.

(iii) Any Department employee in his or her individual capacity if the U.S. Department of Justice (DOJ) has been requested to or has agreed to provide or arrange for representation for the employee.

(iv) Any Department employee in his or her individual capacity where the Department has agreed to represent the employee.

(v) The United States where the Department determines that the litigation is likely to affect the Department or any of its components.

(b) Disclosure to DOJ. If the Department determines that disclosure of certain records to DOJ is relevant and necessary to litigation or ADR, the Department may disclose those records as a routine use to DOJ.

(c) Adjudicative Disclosure. If the Department determines that it is relevant and necessary to the litigation or ADR to disclose certain records to an adjudicative body before which the Department is authorized to appear, to an individual, or to an entity designated by the Department or otherwise empowered to resolve or mediate disputes, the Department may disclose those records as a routine use to the adjudicative body, individual, or entity.

(d) Disclosure to Parties, Counsel, Representatives, or Witnesses. If the Department determines that disclosure of certain records to a party, counsel, representative, or witness is relevant and necessary to the litigation or ADR, the Department may disclose those records as a routine use to the party, counsel, representative, or witness.

(5) Freedom of Information Act (FOIA) and Privacy Act Advice Disclosure. The Department may disclose records to DOJ or the OMB if the Department concludes that disclosure would help in determining whether particular records are required to be disclosed under the FOIA or the Privacy Act.

(6) Contract Disclosure. If the Department contracts with an entity to perform any function that requires disclosing records to the contractor's employees, the Department may disclose the records to those employees. Before entering into such a contract, the Department shall require the contractor to maintain Privacy Act safeguards as required under 5 U.S.C. 552a(m) with respect to the records in the system.

(7) Congressional Member Disclosure. The Department may disclose the records of an individual to a member of Congress or the member's staff in response to an inquiry from the member made at the written request of that individual. The member's right to the information is no greater than the right of the individual who requested the inquiry.

(8) Disclosure in the Course of Responding to Breach of Data. The Department may disclose records to appropriate agencies, entities, and persons when (1) it is suspected or confirmed that the security or confidentiality of information in the eCDR Appeals system has been compromised; (2) the Department has determined that as a result of the suspected or confirmed compromise, there is a risk of harm to economic or property interests, identity theft or fraud, or harm to the security or integrity of the eCDR Appeals system or other systems or programs (whether maintained by the Department or by another agency or entity) that rely upon the compromised information; and (3) the disclosure is made to such agencies, entities, and persons who are reasonably necessary to assist the Department in responding to the suspected or confirmed compromise and in helping the Department prevent, minimize, or remedy such harm.

DISCLOSURE TO CONSUMER REPORTING AGENCIES: None.

POLICIES AND PRACTICES FOR STORING, RETRIEVING, ACCESSING, RETAINING, AND DISPOSING OF RECORDS IN THE SYSTEM:

STORAGE:

Records are maintained in a database on the Department's secure servers and in other electronic storage media.

RETRIEVABILITY:

Records are retrieved by a unique institution of higher education code number provided by the Department to participating institutions and the borrower's Social Security number.

SAFEGUARDS:

Access to the records is limited to authorized personnel only. All physical access to the Department's site and to the site of the Department's contractor where this system of records is maintained, is controlled and monitored by security personnel who check each individual entering the buildings for his or her employee or visitor badge.

The computer system employed by the Department and by the Department's contractors offers a high degree of resistance to tampering and circumvention. This security system limits data access to Department and contract staff on a “need to know” basis, and controls an individual user's ability to access and alter records within the system. All users of this system of records are given a unique user identification. The Department's Federal Student Aid Information Security Privacy Policy requires the enforcement of a complex password policy. In addition, users are required to change their password at least every 60 to 90 days in accordance with the Department's information technology standards. At the principal site of the Department's contractor in Plano, Texas, additional physical security measures are in place and access is monitored 24 hours per day, 7 days a week.

RETENTION AND DISPOSAL:

The records associated with an institution of higher education's cohort default rate challenge or adjustment request are currently unscheduled pending National Archives and Records Administration (NARA) approval of a records retention schedule. Until a NARA-approved records schedule is in effect, no records will be destroyed.

SYSTEM MANAGER(S) AND ADDRESS:

Appeals Team Lead, Default Prevention and Management, Portfolio Performance Management Staff, U.S. Department of Education, Federal Student Aid, Union Center Plaza, 830 First Street, NE., room 84B2, Washington, DC 20202-5353.

NOTIFICATION PROCEDURE:

If you wish to determine whether a record exists regarding you in the system of records, contact the system manager. Your request must meet the requirements of regulations in 34 CFR 5b.5, including proof of identity.

RECORD ACCESS PROCEDURE:

If you wish to gain access to your record in the system of records, contact the system manager at the address listed under, SYSTEM MANAGER AND ADDRESS. Requests should contain your full name, address, and telephone number. Your request must meet the requirements of regulations in 34 CFR 5b.5, including proof of identity.

CONTESTING RECORD PROCEDURE:

If you wish to contest the content of a record regarding you in the system of records, contact the system manager. Your request must meet the requirements of the regulations in 34 CFR 5b.7, including proof of identity.

RECORD SOURCE CATEGORIES:

Information maintained in this system of records is obtained from institutions of higher education and data managers, and the National Direct Student Loan Data System.

EXEMPTIONS CLAIMED FOR THIS SYSTEM:

None.

[FR Doc. E7-25510 Filed 12-31-07; 8:45 am]

BILLING CODE 4000-01-P